DEPARTMENT OF TRANSPORTATION

Federal Aviation Administration

14 CFR Part 39

[Docket No. 2001-NM-339-AD; Amendment 39-13539; AD 2004-06-13]

RIN 2120-AA64

Airworthiness Directives; Airbus Model A319 and A320 Series Airplanes

AGENCY: Federal Aviation Administration, DOT.

ACTION: Final rule.

SUMMARY: This amendment supersedes an existing airworthiness directive (AD), applicable to certain Airbus Model A319 and A320 series airplanes, that currently requires repetitive inspections to detect cracking and delamination of the containers in which the off-wing emergency evacuation slides are stored, and corrective actions if necessary. That AD also requires eventual modifications of the slides, which terminates the requirement for repetitive inspections. This action removes the currently required repetitive inspections, and requires an additional modification of the off-wing emergency evacuation slides. The actions specified by this AD are intended to prevent the loss of the emergency evacuation slides during flight, which could result in damage to the fuselage, and to prevent incorrect inflation of the emergency evacuation slides, which could result in the emergency exits being unusable during an emergency evacuation. This action is intended to address the identified unsafe condition.

DATES: Effective April 30, 2004.

The incorporation by reference of certain publications listed in the regulations is approved by the Director of the Federal Register as of April 30, 2004.

The incorporation by reference of a certain other publication was approved previously by the Director of the Federal Register as of February 1, 2000 (64 FR 72533, December 28, 1999).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: A proposal to amend part 39 of the Federal Aviation Regulations (14 CFR part 39) by superseding AD 99-26-22, amendment 39-11481 (64 FR 72533, December 28,1999), which is applicable to certain Airbus Model A319 and A320 series airplanes, was published in the Federal Register on January 5, 2004 (69 FR 291). The action proposed to require removing the currently required repetitive inspections, and would require an additional modification of the off-wing emergency evacuation slides.

Comment

Interested persons have been afforded an opportunity to participate in the making of this amendment. Due consideration has been given to the one comment received.

The commenter supports the proposed rule.

Conclusion

After careful review of the available data, including the comment noted above, we have determined that air safety and the public interest require the adoption of the rule as proposed.

Cost Impact

The modification per Airbus Service Bulletin A320-25-1156, Revision 02, is currently required by AD 99-26-22, which is applicable to approximately 121 airplanes of U.S. registry. This modification takes approximately 3 work hours per airplane to accomplish (not including time for gaining access and closing up), at an average labor rate of $65 per work hour. The cost of required parts is now approximately $679 per airplane. Based on these figures, the cost impact of this current requirement is estimated to be $105,754, or $874 per airplane.

The new requirements of this AD would affect approximately 435 airplanes of U.S. registry.

The new actions that are required in this AD action will take approximately 3 work hours per airplane to accomplish, at an average labor rate of $65 per work hour. Required parts will cost approximately $80 per airplane. Based on these figures, the cost impact of the new actions is estimated to be $119,625, or $275 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11481 (64 FR 72533, December 28, 1999), and by adding a new airworthiness directive (AD), amendment 39-13539, to read as follows:

2004-06-13 Airbus: Amendment 39-13539. Docket 2001-NM-339-AD. Supersedes AD 99-26-22, Amendment 39-11481.

Applicability: Model A319 and A320 series airplanes, certificated in any category; except airplanes that have Airbus Modifications 24850 and 25844 and 27275 installed in production; or that have Airbus Service Bulletin A320-25-1156, Revision 01, dated February 2, 1999; or Revision 02, dated October 26, 1999; and Airbus Service Bulletin A320-25-1265, dated June 6, 2001; accomplished.

Compliance: Required as indicated, unless accomplished previously.

To prevent the loss of the emergency evacuation slides during flight, which could result in damage to the fuselage, and to prevent incorrect inflation of the emergency evacuation slides, which could result in the emergency exits being unusable during an emergency evacuation, accomplish the following:

Restatement of Requirements of AD 99-26-22

Terminating Modification

(a) For airplanes on which Airbus Modifications 24850 and 25844; or Airbus Service Bulletin A320-25-1156, Revision 01, dated February 2, 1999; or Revision 02, dated October 26, 1999; have not been accomplished: Within 5 years after February 1, 2000 (the effective date of AD 99-26-22, amendment 39-11481), modify the off-wing emergency evacuation slides (i.e., modifications, inspection, repair, and repacking) in accordance with Airbus Service Bulletin A320-25-1156, Revision 01, dated February 2, 1999; or Revision 02, dated October 26, 1999. After the effective date of this AD, only Revision 02 may be used.

Note 1: Airbus Service Bulletin A320-25-1156, Revision 01, dated February 2, 1999, and Revision 02, dated October 26, 1999; refer to Air Cruisers Service Bulletins 004-25-37, Revision 2, dated May 29, 1996, and 004-25-42, dated September 16, 1996; as additional sources of service information for accomplishment of the modification of the off-wing escape slides.

New Requirements of this AD

(b) For airplanes listed in Airbus Service Bulletin A320-25-1265, dated June 6, 2001: Within 3 years after the effective date of this AD, modify the left and right off-wing emergency evacuation slides in accordance with the Accomplishment Instructions of that service bulletin.

Note 2: Airbus Service Bulletin A320-25-1265, dated June 6, 2001, refers to Air Cruisers Service Bulletin 004-25-48, Revision 3, dated August 3, 2001, as an additional source of service information for accomplishment of the modification of the off-wing emergency evacuation slides.

Parts Installation

(c) As of the effective date of this AD, no person may install, on any airplane, an off-wing emergency evacuation slide having part number D31865-101, -102, -103, -104, -105, -106, -107, or -108.

Alternative Methods of Compliance

(d) In accordance with 14 CFR 39.19, the Manager, International Branch, ANM-116, FAA, is authorized to approve alternative methods of compliance for this AD.

Incorporation by Reference

(e) Unless otherwise specified in this AD, the actions shall be done in accordance with Airbus Service Bulletin A320-25-1156, Revision 01, dated February 2, 1999; Airbus Service Bulletin A320-25-1156, Revision 02, dated October 26, 1999; and Airbus Service Bulletin A320-25-1265, dated June 6, 2001; as applicable.

(1) The incorporation by reference of Airbus Service Bulletin A320-25-1156, Revision 02, dated October 26, 1999; and Airbus Service Bulletin A320-25-1265, dated June 6, 2001; is approved by the Director of the Federal Register in accordance with 5 U.S.C. 552(a) and 1 CFR part 51.

(2) The incorporation by reference of Airbus Service Bulletin A320-25-1156, Revision 01, dated February 2, 1999, was approved previously by the Director of the Federal Register as of February 1, 2000 (64 FR 72533, December 28, 1999).

(3) Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2001-380(B), dated September 5, 2001.

Effective Date

(f) This amendment becomes effective on April 30, 2004.

Issued in Renton, Washington, on March 16, 2004.
Kevin M. Mullin,
Acting Manager, Transport Airplane Directorate, Aircraft Certification Service.

[FR Doc. 04-6580 Filed 3-25-04; 8:45 am]

BILLING CODE 4910-13-P